FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011346-014.

Title: Israel Trade Conference Agreement.

Parties: Farrell Lines, Inc.; P&O Nedlloyd Limited; and Zim Integrated Shipping Services, Ltd.

Filing Party: Wayne R. Rohde, Esq.; Sher & Blackwell; 1850 M Street, NW.; Suite 900; Washington, DC 20036.

Synopsis: The amendment limits the parties' authority to cargo moving for the account of specific governmental organizations as well as under existing agreement service contracts.

Agreement No.: 011920.

Title: CMA CGM/Maruba Space Charter Agreement.

Parties: CMA CGM, S.A. and Maruba S.A.

Filing Party: Paul M. Keane, Esq.; Cichanowicz, Callan, Keane, Vengrow & Textor, LLP; 61 Broadway; Suite 3000; New York, NY 10006-2802.

Synopsis: The agreement establishes a space charter arrangement between the parties in the trade between U.S. East Coast ports and ports in Brazil, Argentina, Uruguay, Venezuela, and Colombia.

By order of the Federal Maritime Commission.
Dated: September 23, 2005.
Karen V. Gregory,
Assistant Secretary.

[FR Doc. 05-19368 Filed 9-27-05; 8:45 am]

BILLING CODE 6730-01-P